ENVIRONMENTAL PROTECTION AGENCY

[FRL-8048-6]

Science Advisory Board Staff Office; Request for Nominations of Experts to Serve on the Science Advisory Board Advisory Panel on the Distribution of Persistent Chemicals in Wastewater Treatment

Correction

In notice document 06-2775 beginning on page 14509 in the issue of Wednesday, March 22, 2006, make the following corrections:

1. On page 14509, in the third column, under the heading supplementary information, in the second line, “Claumet” should read “Calumet”.

2. On the same page, in the same column, under the same heading, in the second paragraph, in the 11th line, “aklylphenolethoxylates” should read “alkylphenolethoxylates”.

[FR Doc. C6-2775 Filed 4-4-06; 8:45 am]

BILLING CODE 1505-01-D